DEPARTMENT OF THE INTERIOR

Bureau of Land Management

[AZ-956-02-1420-BJ]

Arizona; Notice of Filing of Plats of Survey

September 26, 2003.

1. The plats of survey of the following described land were officially filed in the Arizona State Office, Phoenix, Arizona, on the dates indicated:

A plat representing the dependent resurvey of a portion of the Fifth Standard Parallel North (south boundary), a portion of the west boundary and a portion of the subdivisional lines, the corrective dependent resurvey of the east half mile between sections 30 and 31, the subdivision of sections 28 and 31 and a metes-and-bounds survey in sections 29 and 30, Township 21 North, Range 9 East of the Gila and Salt River Meridian, Arizona, accepted August 4, 2003 and officially filed August 8, 2003.

This plat was prepared at the request of the Phoenix Field Office, Bureau of Land Management.

A plat representing the dependent resurvey of the south, west and north boundaries and the subdivisional lines, Township 27 North, Range 15 East of the Gila and Salt River Meridian, Arizona, accepted July 24, 2003 and officially filed July 31, 2003.

This plat was prepared at the request of the Bureau of Indian Affairs, Western Regional Office.

A plat representing the dependent resurvey of the south and west boundaries and a portion of the subdivisional lines and the survey of a portion of the subdivisional lines, Township 27 North, Range 16 East of the Gila and Salt River Meridian, Arizona, accepted July 24, 2003 and officially filed July 31, 2003.

This plat was prepared at the request of the Bureau of Indian Affairs, Western Regional Office.

A plat representing the survey of the Eight Standard Parallel North, (south boundary), Township 33 North, Range 20 East of the Gila and Salt River Meridian, Arizona, accepted August 20, 2003 and officially filed August 27, 2003.

This plat was prepared at the request of the Bureau of Indian Affairs, Navajo Regional Office.

A plat representing the survey of the Eighth Standard Parallel North, (south boundary), Township 33 North, Range 21 East of the Gila and Salt River Meridian, Arizona, accepted August 20, 2003 and officially filed August 27, 2003.

This plat was prepared at the request of the Bureau of Indian Affairs, Navajo Regional Office.

A plat representing the survey of the east and west boundaries, and subdivisional lines, Township 32 North, Range 22 East of the Gila and Salt River Meridian, Arizona, accepted August 20, 2003 and officially filed August 27, 2003.

This plat was prepared at the request of the Bureau of Indian Affairs, Navajo Regional Office.

A plat representing the survey of the Eighth Standard Parallel North, (south boundary), Township 33 North, Range 22 East of the Gila and Salt River Meridian, Arizona, accepted August 20, 2003 and officially filed August 27, 2003.

This plat was prepared at the request of the Bureau of Indian Affairs, Navajo Regional Office.

A plat representing the survey of a portion of the Tenth Standard Parallel North, (south boundary), Township 41 North, Range 22 East of the Gila and Salt River Meridian, Arizona, accepted August 19, 2003 and officially filed August 27, 2003.

This plat was prepared at the request of the Bureau of Indian Affairs, Navajo Regional Office.

A plat representing the survey of the south and west boundaries, and the subdivisional lines, Township 40 North, Range 23 East of the Gila and Salt River Meridian, Arizona, accepted August 19, 2003 and officially filed August 27, 2003.

This plat was prepared at the request of the Bureau of Indian Affairs, Navajo Regional Office.

A plat representing the survey of the Tenth Standard Parallel North, (south boundary), Township 41 North, Range 23 East of the Gila and Salt River Meridian, Arizona, accepted August 19, 2003 and officially filed August 27, 2003.

This plat was prepared at the request of the Bureau of Indian Affairs, Navajo Regional Office.

A plat representing the survey of the west boundary, Township 40 North, Range 24 East of the Gila and Salt River Meridian, Arizona, accepted August 19, 2003 and officially filed August 27, 2003.

This plat was prepared at the request of the Bureau of Indian Affairs, Navajo Regional Office.

A plat representing the dependent resurvey of a portion of the Arizona-Utah State line between the 238 mile and 250 mile post, unsurveyed Townships 41 North, Ranges 24, 25 and 26 East of the Gila and Salt River Meridian, Arizona, accepted July 15, 2003 and officially filed July 18, 2003.

This plat was prepared at the request of the Bureau of Indian Affairs, Navajo Regional Office.

A plat representing the survey of the Tenth Standard Parallel North, (south boundary), and a portion of the west boundary, Township 41 North, Range 24 East of the Gila and Salt River Meridian, Arizona, accepted August 19, 2003 and officially filed August 27, 2003.

This plat was prepared at the request of the Bureau of Indian Affairs, Navajo Regional Office.

A plat representing the survey of the Eighth Standard Parallel North, (south boundary), and a portion of the subdivisional lines, Township 33 North, Range 31 East of the Gila and Salt River Meridian, Arizona, accepted July 14, 2003 and officially filed July 18, 2003.

This plat was prepared at the request of the Bureau of Indian Affairs, Navajo Regional Office.

A plat representing the dependent resurvey of a portion of the subdivisional lines, the subdivision of sections 9 and 10 and the metes-and-bounds survey of the Arrastra Mountain Wilderness Area boundary, Township 11 North, Range 12 West of the Gila and Salt River Meridian, Arizona, accepted August 4, 2003 and officially filed August 8, 2003.

This plat was prepared at the request of the Bureau of Land Management, Kingman Field Office.

A plat representing the dependent resurvey of a portion of the west boundary and a portion of the subdivisional lines, the subdivision of sections 3, 4, 6 and 9, and the metes-and-bounds survey in section 4, Township 40 North, Range 15 West of the Gila and Salt River Meridian, Arizona, accepted July 9, 2003 and officially filed July 16, 2003.

This plat was prepared at the request of the Arizona Strip Field Office, Bureau of Land Management.

A plat representing the dependent resurvey of a portion of the Tenth Standard Parallel North, (south boundary) and a portion of the subdivisional lines, the subdivision of section 28, 33, 34, and 35, and metes-and-bounds surveys in sections 28 and 33, Township 41 North, Range 15 West of the Gila and Salt River Meridian, Arizona, accepted July 9, 2003 and officially filed July 16, 2003.

This plat was prepared at the request of the Arizona Strip Field Office, Bureau of Land Management.

A plat representing the dependent resurvey of a portion of the east boundary, a portion of the subdivisional lines and mineral survey number 1429, Sun Rise Lode, Township 14 North, Range 19 West of the Gila and Salt River Meridian, Arizona, accepted August 28, 2003 and officially filed September 4, 2003.

This plat was prepared at the request of the Lake Havasu Field Office, Bureau of Land Management.

A plat representing the survey of the Tenth Standard Parallel North, (south boundary), the Sixth Guide Meridian East, (west boundary), the east boundary and the subdivisional lines, Township 41 North, Range 25 East of the Gila and Salt River Meridian, Arizona, accepted July 15, 2003 and officially filed July 18, 2003.

This plat was prepared at the request of the Bureau of Indian Affairs, Navajo Regional Office.

A plat representing the survey of the Eighth Standard Parallel North, (south boundary), a portion of the east boundary, and a portion of the subdivisional lines, Township 33 North, Range 30 East of the Gila and Salt River Meridian, Arizona, accepted April 25, 2003 and officially filed May 1, 2003.

This plat was prepared at the request of the Bureau of Indian Affairs, Navajo Regional Office.

A plat representing the dependent resurvey of a portion of the Arizona-New Mexico state line between the 53 mile post and an angle point of the 57th mile, unsurveyed Townships 32 and 33 North, Range 31 East of the Gila and Salt River Meridian, Arizona, accepted July 14, 2003 and officially filed July 30, 2003.

This plat was prepared at the request of the Bureau of Indian Affairs, Navajo Regional Office.

A plat representing the dependent resurvey of portions of mineral survey 1406, Georgia Lode and mineral survey 2566, Noonday Mine Lode and the survey of Tract 39, in unsurveyed Township 23 South, Range 16 East, of the Gila and Salt River Meridian, Arizona, accepted July 9, 2003 and officially filed July 16, 2003.

This plat was prepared at the request of the Coronado National Forest, United States Forest Service.

All inquiries relating to these lands should be sent to the Arizona State Office, Bureau of Land Management, 222 N. Central Avenue, P.O. Box 1552, Phoenix, Arizona 85001-1552.

Kenny D. Ravnikar,
Chief Cadastral Surveyor of Arizona.

[FR Doc. 03-25483 Filed 10-7-03; 8:45 am]

BILLING CODE 4310-32-P